DEPARTMENT OF ENERGY

Energy Information Administration

Agency Information Collection Activities: Proposed Collection; Comment Request

AGENCY: Energy Information Administration (EIA), Department of Energy (DOE).

ACTION: Agency information collection activities: Proposed collection; comment request.

SUMMARY: The EIA is soliciting comments on:

• A revised Form EIA-1605, “Voluntary Reporting of Greenhouse Gases” and instructions;

• A three year extension of Office of Management and Budget (OMB) approval in order for EIA to implement the revised Form EIA-1605; and

• The discontinuation of the Form EIA-1605EZ.

DATES: Comments must be submitted by August 29, 2005 to the address listed below.

ADDRESSES: Send all comments to the attention of Stephen E. Calopedis. To ensure receipt of the comments by the due date, submission by e-mail (stephen.calopedis@eia.doe.gov) or FAX (202-586-3045) is recommended. Comments submitted by mail should be sent to Stephen E. Calopedis, U.S. Department of Energy, Energy Information Administration, EI-81, 1000 Independence Avenue, SW., Washington, DC 20585. Questions on this action should be directed to Stephen E. Calopedis at 202-586-1156 or stephen.calopedis@eia.doe.gov.

FOR FURTHER INFORMATION CONTACT: Requests for additional information or copies of the revised reporting form and instructions should be directed to Stephen E. Calopedis at 202-586-1156 or stephen.calopedis@eia.doe.gov. The revised version of the Form EIA-1605, “Voluntary Reporting of Greenhouse Gases,” and instructions, can also be downloaded from the Program's Current Developments Web site at http://www.eia.doe.gov/oiaf/1605/aboutcurrent.html.

SUPPLEMENTARY INFORMATION:

I. Background

II. Current Actions

III. Request for Comments

I. Background

The Federal Energy Administration Act of 1974 (Pub. L. 93-275, 15 U.S.C. 761 et seq.) and the DOE Organization Act (Pub. L. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer-term domestic demands.

The EIA, as part of its effort to comply with the Paperwork Reduction Act of 1995 (Pub. L. 104-13, 44 U.S.C. Chapter 35), provides the general public and other Federal agencies with opportunities to comment on collections of information conducted by or in conjunction with the EIA. Any comments received help the EIA to prepare data requests that maximize the utility of the information collected, and to assess the impact of collection requirements on the public. Also, the EIA will later seek approval from the OMB under Section 3507(a) of the Paperwork Reduction Act of 1995 to collect data under the revised form EIA-1605.

The Voluntary Reporting of Greenhouse Gases Program information collection is conducted pursuant to Section 1605(b) of the Energy Policy Act of 1992 (Pub. L. 102-486, 42 U.S.C. 13385). The Program is currently operated under General Guidelines issued in October 1994 (59 FR 52769) by the DOE's Office of Policy and International Affairs (http://www.eia.doe.gov/oiaf/1605/guidelns.html). The existing EIA-1605 and EIA-1605EZ forms were designed to collect voluntarily reported data on greenhouse gas emissions, reductions of these emissions, and increased carbon fixation, as well as information on commitments to reduce greenhouse gas emissions and sequester carbon in future years (http://www.eia.doe.gov/oiaf/1605/Forms.html).

The results of the Voluntary Reporting of Greenhouse Gases Program are summarized in the Program's most recent annual reports entitled Voluntary Reporting of Greenhouse Gases 2003: Summary (http://www.eia.doe.gov/oiaf/1605/vrrpt/summary/index.html) and Voluntary Reporting of Greenhouse Gases 2003 (http://www.eia.doe.gov/oiaf/1605/vrrpt/). Additionally, EIA produces and makes publicly available, a “public-use” database containing all the non-confidential information reported to EIA's Voluntary Reporting of Greenhouse Gases Program (http://www.eia.doe.gov/oiaf/1605/databases.html).

II. Current Actions

EIA is soliciting public comments on the items below:

• A Revised Form EIA-1605, Voluntary Reporting of Greenhouse Gases' and instructions;

• A three year extension of Office of Management and Budget (OMB) approval in order for EIA to implement the revised Form EIA-1605, “Voluntary Reporting of Greenhouse Gases,” and;

• The discontinuation of Form EIA-1605EZ, “Voluntary Reporting of Greenhouse Gases” (short form).

The request for comment is being made by the EIA in support of efforts to develop and implement a survey data collection instrument that is consistent with Interim Final General Guidelines and draft Technical Guidelines for the Voluntary Reporting of Greenhouse Gases Program that were proposed on March 24, 2005, by DOE's Office of Policy and International Affairs (70 FR 15169 and 70 FR 15164). It is important to note that the proposed revised EIA-1605 form represents EIA's interpretation of the Interim Final General Guidelines and draft Technical Guidelines and the final content of the revised EIA-1605 form will depend on the content of the final General and Technical Guidelines. For copies of the Interim Final General Guidelines, the draft Technical Guidelines and all public comments on these documents go to: http://www.pi.energy.gov/enhancingGHGregistry/index.html.

The Interim Final General Guidelines specify an effective date of September 20, 2005, but indicate that it is DOE's intent to finalize the guidelines prior to the effective date. As a consequence of a 30-day extension of the public comment period on the Interim Final General Guidelines and the draft Technical Guidelines, and the number and complexity of the public comments submitted, it is possible that DOE may extend the effective date beyond September 20, 2005.

EIA plans to complete its review of comments received under this notice, and revisions to the proposed revised EIA-1605 form, before the effective date of the revised General and Technical Guidelines. Following OMB approval of the revised EIA-1605 form, EIA intends to develop an electronic data collection system. EIA now expects that this data collection system will be ready in time to permit reporting during 2006, although some delay in the normal reporting schedule is likely to be necessary. Any further delays in the effective date of the guidelines have the potential to cause corresponding delays in EIA's collection of data using the revised EIA-1605 form.

Summary background information on the development of the proposed revised General and Technical Guidelines to the Voluntary Reporting of Greenhouse Gases is provided below.

Proposed Revised Guidelines for the Voluntary Reporting of Greenhouse Gases Program

On February 14, 2002, President George W. Bush announced a series of programs and initiatives to address the issue of global climate change, including a greenhouse gas intensity reduction goal, energy technology research programs, targeted tax incentives to advance the development and adoption of new technologies, and voluntary programs to promote actions to reduce greenhouse gases. As a part of this effort, the President directed the Secretary of Energy, in consultation with the Secretary of Commerce, the Secretary of Agriculture, and the Administrator of the Environmental Protection Agency, to propose improvements to the current Voluntary Reporting of Greenhouse Gases Program required under section 1605(b) of the Energy Policy Act of 1992. These improvements are to enhance measurement accuracy, reliability, and verifiability, working with and taking into account emerging domestic and international approaches. The President also directed the Secretary of Energy to recommend reforms to ensure that businesses and individuals that register reductions are not penalized under a future climate policy and to give transferable credits to companies that can show real emissions reductions.

Finalization and Implementation of Revised Program Guidelines

DOE's Office of Policy and International Affairs published in the March 24, 2005 Federal Register Interim Final General Guidelines. On that date DOE also published a notice of availability inviting public comment on Draft Technical Guidelines that will, when combined with the revised General Guidelines, fully implement the revised Voluntary Reporting of Greenhouse Gases Program. In the March 25, 2005 Federal Register, DOE stated its intention that the Interim Final General Guidelines will be effective on September 20, 2005. As noted previously, it is possible that DOE could extend the effective date beyond September 20, 2005. The incorporation by reference of the Draft Technical Guidelines, in the Federal Register, affirms DOE's intention that they also will be effective on that date. The purposes of the proposed revised Guidelines are to: (1) Establish revised procedures and reporting requirements for filing voluntary reports, and (2) encourage corporations, government agencies, non-profit organizations, individuals and other private and public entities to submit annual reports of their total entity-wide greenhouse gas emissions, net emission reductions, and carbon sequestration activities that are complete, reliable and consistent.

In response to the finalization and issuance of the revised Guidelines, the EIA has developed and plans to issue revised reporting forms and instructions for reporting under the revised Program Guidelines. The first cycle of reporting to the Program under the revised Guidelines is expected to occur in 2006, for 2005 data.

Principal Conceptual Changes to the Current Survey Form EIA-1605, “Voluntary Reporting of Greenhouse Gases”

The principal conceptual changes to form EIA-1605 are illustrated below in Table 1 as a side-by-side comparison of the current and proposed revised form EIA-1605.

Table 1.—Comparison of Current Version of Form EIA-1605 With the Revised Version of Form EIA-1605
Current version of formEIA-1605 | Revised version of form EIA-1605
Schedule I, “Entity Identification and Certification.” Collects information on the reporter, including contact information, organization type, geographic scope, Standard Industrial Classification (SIC) code, and confidentiality. Also includes report certification | Replaced by Schedules I (Entity Statement) and II (Subentity Statement). Principal differences to Schedule I include collection of North American Industrial Classification System (NAICS) code (instead of SIC code), expanded list of entity type categories, changes in entity statement from previous years, and report characteristics (base period, voluntary program affiliation, entity organization). Schedule II collects similar data for reported subentities. Certification is addressed in Schedule VII (Verification and Certification) along with third party verification, which is not included on current form.
Schedule II, “Project-Level Emissions and Reductions.” Collects information on projects that reduce emissions or sequester carbon in 10 sections, each devoted to a specific project category | Project-level reductions can be “registered” only under limited circumstances in Schedule V (Emissions Reductions), Section 1, Part E, Action-specific Emission Reductions.
Schedule III, “Entity-Level Emissions and Reductions.” Collects emissions, carbon sequestration, and emission reductions for the entire entity | Focus on revised reporting form is reporting entity-level emissions and reductions. Schedule III (Entity and Subentity Emissions and Sequestration Inventories) collects data on entity-wide emissions. Schedule IV (Output and Emissions Intensity) collects information on output and emissions intensity. Schedule V (Emission Reductions) collects emission reductions calculated using approved methods and allows registration of reductions meeting certain criteria.
Schedule IV “Commitments to Reduce Greenhouse Gases.” Collects information on commitments to reduce future emissions or sequester carbon. These commitments can be at the project or entity level, or can be financial commitments | Not included

Please refer to the proposed revised form and instructions for more information about the purpose, who may report, when to report, where to submit, the elements to be reported, instructions for reporting, provisions for confidentiality, and uses (including possible nonstatistical uses) of the information (http://www.eia.doe.gov/oiaf/1605/aboutcurrent.html). For instructions on obtaining materials, see the “For Further Information Contact” section.

III. Request for Comments

Prospective respondents and other interested parties should comment on the actions discussed in item II. The following issues are provided to assist in the preparation of comments.

General Issues

A. Is the proposed collection of information necessary for the proper performance of the responsibilities of the agency and does the information have practical utility? Practical utility is defined as the actual usefulness of information to or for an agency or other parties, taking into account its accuracy, adequacy, reliability, timeliness, and the agency's ability to process the information it collects.

B. What enhancements can be made to the quality, utility, and clarity of the information to be collected?

As a Potential Respondent to the Request for Information

A. What actions could be taken to help ensure and maximize the quality, objectivity, utility, and integrity of the information to be collected?

B. Are the instructions and definitions clear and sufficient? If not, which instructions need clarification?

C. EIA will make the final EIA-1605 form and instructions publicly available after OMB approval is received. However, no request for information will be made until EIA has completed the automated EIA-1605 reporting system. For the first data collection in 2006 to collect calendar year 2005 data using the revised Form EIA-1605, EIA proposes the reporting due date will be three months after the automated reporting system is made publicly available, but no earlier than July 1, 2006. In subsequent years, the reporting due date will be July 1 for activities during the previous calendar year. Can the information be submitted by those due dates?

D. The public reporting burden for this collection is estimated to average 40 hours per response on Form EIA-1605, although it is expected that this burden will vary widely among reporters. The estimated burden includes the total time necessary to provide the requested information. In your opinion, how accurate is this estimate?

E. The agency estimates that the only cost to a respondent is for the time it will take to complete the collection. Will a respondent incur any start-up costs for reporting, or any recurring annual costs for operation, maintenance, and purchase of services associated with the information collection?

F. What additional actions could be taken to minimize the burden of this collection of information? Such actions may involve the use of automated, electronic, mechanical, or other technological collection techniques or other forms of information technology.

G. Does any other Federal, State, or local agency collect similar information? If so, specify the agency, the data element(s), and the methods of collection.

As a Potential User of the Information To Be Collected

A. What actions could be taken to help ensure and maximize the quality, objectivity, utility, and integrity of the information disseminated?

B. Is the information useful at the levels of detail to be collected?

C. For what purpose(s) would the information be used? Be specific.

D. Are there alternate sources for the information and are they useful? If so, what are their weaknesses and/or strengths?

Comments submitted in response to this notice will be summarized and/or included in the request for OMB approval of the form. They also will become a matter of public record.

Statutory Authority: Section 3507(h)(1) of the Paperwork Reduction Act of 1995 (Pub. L. 104-13, 44 U.S.C. Chapter 35).

Issued in Washington, DC, June 24, 2005.
Jay H. Casselberry,
Agency Clearance Officer, Energy Information Administration.

[FR Doc. 05-12905 Filed 6-29-05; 8:45 am]

BILLING CODE 6450-01-P